DEPARTMENT OF LABOR

Employment and Training Administration

[TA-W-63,078]

Mavrick Metal Stamping Incorporated, Mancelona, MI; Notice of Termination of Investigation

Pursuant to section 221 of the Trade Act of 1974, as amended, an investigation was initiated on March 27, 2008 in response to a petition filed by a company official on behalf of workers at Mavrick Metal Stamping Incorporated, Mancelona, Michigan.

The petitioner has requested that the petition be withdrawn. Consequently, the investigation has been terminated.

Signed in Washington, DC, this 16th day of April 2008.
Elliott S. Kushner,
Certifying Officer, Division of Trade Adjustment Assistance.

[FR Doc. E8-8782 Filed 4-22-08; 8:45 am]

BILLING CODE 4510-FN-P